DEPARTMENT OF TRANSPORTATION

Federal Aviation Administration

14 CFR Part 71

[Docket No. FAA-2022-0243; Airspace Docket No. 22-AGL-5]

RIN 2120-AA66

Amendment of VOR Federal Airways V-26 and V-63; Establishment of Area Navigation (RNAV) Route T-464; and Revocation of the Wausau, WI, Low Altitude Reporting Point; in the Vicinity of Wausau, WI

AGENCY: Federal Aviation Administration (FAA), DOT.

ACTION: Final rule; correction.

SUMMARY: This action corrects a final rule published by the FAA in the Federal Register on October 31, 2022, that amends VHF Omnidirectional Range (VOR) Federal airways V-26 and V-63; establishes Area Navigation (RNAV) route T-464; and revokes the Wausau, WI, Low Altitude Reporting Point in the vicinity of Wausau, WI. In the new RNAV route T-464, the final rule identified the TONOC, WI, route point as a waypoint (WP), in error. This action makes editorial corrections to the reference of the TONOC, WI, WP to change it to be reflected as a Fix. This correction is necessary to match the FAA National Airspace System Resource (NASR) database information.

DATES: Effective date 0901 UTC, December 29, 2022. The Director of the Federal Register approves this incorporation by reference action under 1 CFR part 51, subject to the annual revision of FAA Order 7400.11 and publication of conforming amendments.

ADDRESSES: FAA Order 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule in the Federal Register (87 FR 65521; October 31, 2022), amending VOR Federal airways V-26 and V-63; establishing RNAV route T-464; and revoking the Wausau, WI, Low Altitude Reporting Point in the vicinity of Wausau, WI. Subsequent to publication, the FAA determined that the TONOC, WI, route point was inadvertently identified as a WP, in error. The correct route point reference is the TONOC, WI, Fix. This rule corrects that error by changing the reference of the TONOC, WI, WP to the TONOC, WI, Fix.

This is an editorial change only to match the FAA NASR database information and does not alter the alignment of the affected T-464 route.

United States Area Navigation Routes are published in paragraph 6011 of FAA Order JO 7400.11G, dated August 19, 2022, and effective September 15, 2022, which is incorporated by reference in 14 CFR 71.1. The RNAV T-route listed in this document will be published subsequently in FAA Order JO 7400.11.

Correction to Final Rule

Accordingly, pursuant to the authority delegated to me, references to the TONOC, WI, WP that is reflected in Docket No. FAA-2022-0243, as published in the Federal Register of October 31, 2022 (87 FR 65521), FR Doc. 2022-22165, is corrected as follows:

1. On page 65523, correct the table for T-464 CUSAY, WI to CHURP, WI [New] to read:

T-464 CUSAY, WI to CHURP, WI [New]
CUSAY, WI | WP | (Lat. 46°01′07.84″ N, long. 091°26′47.14″ W)
TONOC, WI | FIX | (Lat. 45°03′47.56 ″ N, long. 091°38′11.87″ W)
EDGRR, WI | WP | (Lat. 44°51′31.83″ N, long. 089°56′43.06″ W)
HEVAV, WI | WP | (Lat. 44°50′48.43″ N, long. 089°35′12.51″ W)
CHURP, WI | FIX | (Lat. 44°42′54.82″ N, long. 088°56′48.69″ W)

* * * * *

Issued in Washington, DC, on November 3, 2022.
Scott M. Rosenbloom,
Manager, Airspace Rules and Regulations.

[FR Doc. 2022-24387 Filed 11-8-22; 8:45 am]

BILLING CODE 4910-13-P